ENVIRONMENTAL PROTECTION AGENCY

[EPA-HQ-OPPT-2013-0721; FRL 9922-18-OEI ]

Information Collection Request Submitted to OMB for Review and Approval; Comment Request; Partial Update of the TSCA Sec. 8(b) Inventory Data Base, Production and Site Reports (Chemical Data Reporting)

AGENCY: Environmental Protection Agency (EPA).

ACTION: Notice.

SUMMARY: The Environmental Protection Agency has submitted an information collection request (ICR), “Partial Update of the TSCA Sec. 8(b) Inventory Data Base, Production and Site Reports (Chemical Data Reporting)” (EPA ICR No. 1884.08, OMB Control No. 2070-0162) to the Office of Management and Budget (OMB) for review and approval in accordance with the Paperwork Reduction Act (44 U.S.C. 3501 et seq.). This is a proposed revision of the ICR, which is currently approved through January 31, 2015. Public comments were previously requested via the Federal Register (79 FR 29442) on May 22, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 2, 2015.

ADDRESSES: Submit your comments, referencing Docket ID Number EPA-HQ-OPPT-2013-0721, to (1) EPA online using http://www.regulations.gov (our preferred method), by email to oppt.ncic@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Colby Lintner, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION:

Supporting documents that explain in detail the information that the EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Abstract: The Toxic Substances Control Act (TSCA) requires EPA to compile and keep current a complete list of chemical substances manufactured or processed in the United States. EPA updates this inventory of chemicals every four years by requiring manufacturers, processors and importers to provide production volume, plant site information and site-limited status information. This information allows EPA to identify what chemicals are or are not currently in commerce and to take appropriate regulatory action as necessary. EPA also uses the information for screening chemicals for risks to human health or the environment, for priority-setting efforts, and for exposure estimates. This ICR addresses the collection of inventory-related information. Respondents may claim all or part of a response confidential. EPA will disclose information that is covered by a claim of confidentiality only to the extent permitted by, and in accordance with, the procedures in TSCA section 14 and 40 CFR part 2.

Form Numbers: EPA Form 7740-8.

Respondents/affected entities: Entities potentially affected by this action include companies that manufacture, process or import chemical substances, mixtures or categories.

Respondent's obligation to respond: Mandatory; see 40 CFR part 711.

Estimated number of respondents: 4,991 (total).

Frequency of response: Once every four years.

Total estimated burden: 789,203 hours per year. Burden is defined at 5 CFR 1320.03(b).

Total estimated cost: $52,059,120 per year, includes $0 annualized capital or operation and maintenance costs.

Changes in the Estimates: There is a net increase of 315,080 hours in the total estimated respondent burden compared with the ICR currently approved by OMB. This increase reflects a number of factors, which are detailed in the supporting statement. This change involves both program changes and adjustments.

Courtney Kerwin,
Acting Director, Collection Strategies Division.

[FR Doc. 2015-01600 Filed 1-28-15; 8:45 am]

BILLING CODE 6560-50-P